INTERNATIONAL TRADE COMMISSION

[Investigation No. 731-TA-267 and 268 (Review) (Remand)]

Top-of-Stove Stainless Steel Cooking Ware From Korea and Taiwan; Notice and Scheduling of Remand Proceedings

AGENCY: United States International Trade Commission.

ACTION: Notice.

SUMMARY: The U.S. International Trade Commission (the Commission) hereby gives notice of the court-ordered remand of its final antidumping investigation in Top-of-Stove Stainless Steel Cooking Ware from Korea and Taiwan No. 731-TA-267 and 268 (Review).

EFFECTIVE DATE: November 29, 2001.

FOR FURTHER INFORMATION CONTACT: George Deyman, Office of Investigations, telephone 202-205-3197 or Laurent de Winter, Office of General Counsel, telephone 202-708-5452, U.S. International Trade Commission. Hearing-impaired individuals are advised that information on this matter can be obtained by contacting the Commission's TDD terminal on 202-205-1810. General information concerning the Commission may also be obtained by accessing its Internet server (http://www.usitc.gov).

SUPPLEMENTARY INFORMATION

Reopening of the Record

For purposes of its determination on remand, the Commission is reopening the record in this investigation for the limited purpose of (1) seeking basic information regarding subject product from Taiwan and (2) seeking to cure the possible inclusion of non-subject products in official import data. The Commission will provide the parties an opportunity to file comments on any new information received pertaining to these subjects. A schedule for the submission of such comments will be published shortly.

Participation in the Proceedings

Only those persons who were interested parties to the original administrative proceedings (i.e., persons listed on the Commission Secretary's service list) may participate in these remand proceedings.

Limited Disclosure of Business Proprietary Information (BPI) Under an Administrative Protective Order (APO) and BPI Service List

Information obtained during the remand investigation will be released to parties under the administrative protective order (“APO”) in effect in the original investigation. Pursuant to section 207.7(a) of the Commission's rules, the Secretary will make business proprietary information gathered in the final investigation and this remand investigation available to additional authorized applicants, that are not covered under the original APO, provided that the application is made not later than seven (7) days after publication of the Commission's notice of reopening the record on remand in the Federal Register. Applications must be filed for persons on the Judicial Protective Order in the related CIT case, but not covered under the original APO. A separate service list will be maintained by the Secretary for those parties authorized to receive BPI under the APO in this remand investigation.

Authority: This action is taken under the authority of the Tariff Act of 1930, title VII.

Issued: November 29, 2001.
By order of the Commission.
Donna R. Koehnke,
Secretary.

[FR Doc. 01-30075 Filed 12-4-01; 8:45 am]

BILLING CODE 7020-02-P